DEPARTMENT OF ENERGY

Federal Energy Regulatory Commission

[Docket Nos. CP04-36-000 and CP04-41-000]

Weaver's Cove Energy L.L.C. and Mill River Pipeline L.L.C.; Notice of Site Visit and Technical Conference

April 19, 2004.

On Tuesday May 4, 2004, staff of the Office of Energy Projects (OEP) will conduct a visit to the site of Weaver's Cove Energy, L.L.C.'s proposed liquefied natural gas (LNG) import terminal and storage facility in Fall River, Massachusetts. This site visit will be open to the public. Anyone interested in participating should meet at the entrance to the site at One New Street at 2 p.m. on May 4, 2004. For additional information, please contact the Commission's Office of External Affairs at 1-866-208-FERC (3372).

On Wednesday May 5, 2004, OEP will convene a cryogenic design and technical conference of the proposed LNG import terminal and storage facility in Fall River, Massachusetts. The cryogenic conference will start at 9 a.m. on May 5, 2004, at the Venus de Milo Restaurant in Swansea, Massachusetts. In view of the nature of security issues to be explored, the cryogenic conference will not be open to the public. Attendance at the conference will be limited to existing parties to the proceeding (anyone who has specifically requested to intervene as a party) and to representatives of interested Federal, State and local agencies. Any person planning to attend the May 5th conference must notify the Office of General Counsel (Joseph O'Malley) at (202) 502-8035 by 12 noon on May 4, 2004, and must sign a non-disclosure statement prior to admission.

Magalie R. Salas,
Secretary.

[FR Doc. E4-933 Filed 4-26-04; 8:45 am]

BILLING CODE 6717-01-P